DEPARTMENT OF HOMELAND SECURITY

U.S. Immigration and Customs Enforcement

Revision of a Currently Approved Collection: Immigration Bond; Correction

AGENCY: U.S. Immigration and Customs Enforcement, DHS.

ACTION: Notice; correction.

SUMMARY: On August 27, 2019 ICE published in the Federal Register requests for comments on the revision of the currently approved I-352 Immigration Bond collection. An information field did not display correctly on the published version of the revised draft bond form.

FOR FURTHER INFORMATION CONTACT: For specific question related to collection activities, please contact: Justin Gellert, 202-732-5462, justin.c.gellert@ice.dhs.gov, Enforcement and Removal Operations, Bond Management Unit, ICE.

The revised bond form that was published by ICE inadvertently hid the information line for the “name and address of the person who executed a written instrument with the surety company requesting it to post bond,” also known as the indemnitor. This information about the indemnitor is requested on the current approved version of the bond form, and the information line will be included in the final version of the revised form.

Dated: December 16, 2019.
Scott Elmore,
ICE PRA Clearance Officer.

[FR Doc. 2019-27404 Filed 12-18-19; 8:45 am]

BILLING CODE 9111-28-P